SMALL BUSINESS ADMINISTRATION

[License No. 02/02-5377]

Elk Associates Funding Corporation; Notice Seeking Exemption Under Section 312 of the Small Business Investment Act, Conflicts of Interest

Notice is hereby given that Elk Associates Funding Corporation, 747 Third Avenue, New York, New York 10017, a Federal Licensee under the Small Business Investment Act of 1958, as amended (“the Act”), in connection with the financing of a small concern, has sought an exemption under section 312 of the Act and section 107.730, Financings which Constitute Conflicts of Interest of the Small Business Administration (“SBA”) rules and regulations (13 CFR 107.730 (2000). Elk Associates Funding Corporation proposes to provide loans to Concorde Cab Corp. and Queens Star Cab Corp. The financings are contemplated for the purchase of taxicab medallions, New York City transfer taxes and taxicab vehicles.

The financings are brought within the purview of sec. 107.730(a)(1) of the regulations because Meryl Sara and Lauren Abate, Associates of Elk Associates Funding Corporation, will own greater than 10 percent of Concorde Cab Corp. and Queens Star Cab Corp., and therefore, Concorde Cab Corp. and Queens Star Cab Corp. are considered Associates of Elk Associates Funding Corporation as defined in section 107.50 of the regulations.

Notice is hereby given that any interested person may submit written comments on the transaction to the Acting Associate Administrator for Investment, U.S. Small Business Administration, 409 Third Street, SW, Washington, DC 20416.

Dated: May 29, 2001.
Harry Haskins,
Acting Associate Administrator for Investment.

[FR Doc. 01-14511 Filed 6-7-01; 8:45 am]

BILLING CODE 8025-01-P